DEPARTMENT OF ENERGY

Federal Energy Regulatory Commission

Combined Notice of Filings #1

Take notice that the Commission received the following electric rate filings:

Docket Numbers: ER21-2655-001.

Applicants: Southwestern Public Service Company.

Description: Tariff Amendment: SPS-Llano-Second Amnd-Deferral Action-101-0.0.1 to be effective 12/31/9998.

Filed Date: 10/5/21.

Accession Number: 20211005-5061.

Comment Date: 5 p.m. ET 10/26/21.

Docket Numbers: ER22-42-000.

Applicants: DTE Electric Company.

Description: § 205(d) Rate Filing: Amendment to Rate Schedule 28 to be effective 7/1/2021.

Filed Date: 10/5/21.

Accession Number: 20211005-5001.

Comment Date: 5 p.m. ET 10/26/21.

Docket Numbers: ER22-43-000.

Applicants: American Electric Power Service Corporation, Indiana Michigan Power Company, AEP Indiana Michigan Transmission Company, Inc., PJM Interconnection, L.L.C.

Description: § 205(d) Rate Filing: American Electric Power Service Corporation submits tariff filing per 35.13(a)(2)(iii: AEP submits one FA re: SA No. 5677 to be effective 12/5/2021.

Filed Date: 10/5/21.

Accession Number: 20211005-5011.

Comment Date: 5 p.m. ET 10/26/21.

Docket Numbers: ER22-44-000.

Applicants: Maverick Wind Project Holdings LLC.

Description: Tariff Amendment: Notice of Cancellation of Market-Based Rate Tariff to be effective 12/5/2021.

Filed Date: 10/5/21.

Accession Number: 20211005-5023.

Comment Date: 5 p.m. ET 10/26/21.

Docket Numbers: ER22-45-000.

Applicants: California Independent System Operator Corporation.

Description: § 205(d) Rate Filing: 2021-10-05 EIM Implementation Agreement Cancellation—BANC to be effective 12/5/2021.

Filed Date: 10/5/21.

Accession Number: 20211005-5077.

Comment Date: 5 p.m. ET 10/26/21.

Docket Numbers: ER22-46-000.

Applicants: Parkway Generation Essex, LLC.

Description: Baseline eTariff Filing: Market-Based Rate Application and Request for Expedited Action to be effective 12/1/2021.

Filed Date: 10/5/21.

Accession Number: 20211005-5081.

Comment Date: 5 p.m. ET 10/26/21.

Docket Numbers: ER22-47-000.

Applicants: Southwestern Electric Power Company.

Description: § 205(d) Rate Filing: SWEPCO-ETEC Loops Operations Services Agreement to be effective 9/9/2021.

Filed Date: 10/5/21.

Accession Number: 20211005-5087.

Comment Date: 5 p.m. ET 10/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2021.
Kimberly D. Bose,
Secretary.

[FR Doc. 2021-22130 Filed 10-8-21; 8:45 am]

BILLING CODE 6717-01-P